DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before May 22, 2012. Address written comments to Statutory Import Programs Staff, Room 3720, U.S. Department of Commerce, Washington, DC 20230. Applications may be examined between 8:30 a.m. and 5:00 p.m. at the U.S. Department of Commerce in Room 3720.

Docket Number: 12-007. Applicant: Argonne National Laboratory, 9700 South Cass Ave., Lemont, IL 60439. Instrument: Klystron. Manufacturer: Thales Components Corp., France. Intended Use: The instrument will be used for a wide variety of research purposes, including the investigation of atomic structure, and material behavior under extreme pressures. The instrument is used as a component part of a particle accelerator system that produces and stores a high-energy electron beam in a storage ring. This electron beam is then manipulated by special magnets in order to produce photon flux in the form of x-rays. This x-ray flux is ultimately used for imaging biological and other materials samples. Justification for Duty-Free Entry: There are no instruments of the same general category manufactured in the United States. Application accepted by Commissioner of Customs: March 1, 2012.

Dated: April 25, 2012.
Gregory W. Campbell,
Director of Subsidies Enforcement, Import Administration.

[FR Doc. 2012-10593 Filed 5-1-12; 8:45 am]

BILLING CODE 3510-DS-P